DEPARTMENT OF ENERGY

Federal Energy Regulatory Commission

[Docket Nos. CP00-40-000, -001, and -002]

Florida Gas Transmission Company; Notice of Availability of the Draft Environmental Impact Statement for the Proposed FGT Phase V Expansion Project

April 5, 2001.

The staff of the Federal Energy Regulatory Commission (FERC or Commission) has prepared a draft environmental impact statement (EIS) to assess the environmental impact associated with the construction of facilities proposed by Florida Gas Transmission Company (FGT) and referred to in this draft EIS as the FGT Phase V Expansion Project in the above-referenced docket. The application, the draft EIS and other supplemental filings in this docket are available for viewing on the FERC Internet website (www.ferc.fed.us). Click on the “RIMS” link, select “Docket #” from the RIMS menu, and follow the instructions.

The draft EIS was prepared to satisfy the requirements of the National Environmental Policy Act (NEPA). The staff concludes that approval of the FGT Phase V Expansion Project, with appropriate mitigating measures as recommended, would have limited adverse environmental impact. The draft EIS evaluates alternatives to the proposal, including system alternatives, route alternatives, and route variations.

The draft EIS assesses the potential environmental effects of the construction and operation of the proposed facilities in Mississippi, Alabama, and Florida.

The purpose of the FGT Phase V Expansion Project is to transport up to 112,487 million cubic feet (MMcf) per day of natural gas on an annual basis to seven electric generation customers and others in Florida. Three of these customers, representing 94 percent of proposed transportation capacity, are in the process of developing and constructing additional gas-fired electric generating capacity to serve the growing market for electricity in Florida. FGT estimates the total cost of its Phase V Expansion Project at $452 million.

FGT proposes to construct and operate an interstate natural gas pipeline and associated aboveground facilities under section 7(c) of the Natural Gas Act (NGA) and Title 18, CFR, Part 157. FGT proposes to expand its existing 5,225-mile-long natural gas pipeline transmission system by the construction of approximately 167.1 miles of pipeline loops and laterals, 132,615 horsepower (hp) of additional compression at nine existing and three new compressor stations, and other associated auxiliary facilities in various locations in Mississippi, Alabama, and Florida.

In addition, FGT proposes to acquire from Koch Gateway Pipeline Company (KGPC) an interest in KGPC's Mobile Bay Lateral that would give FGT the rights to about 50 percent of the available capacity on that system. Concurrent with FGT's filing, KGPC filed an application in Docket No. CP00-39-000 for approval to abandon by sale to FGT the interest in its Mobile Bay Lateral. However, the environmental analysis of this action qualifies as a categorical exclusion and is not included in the EIS.

Comment Procedures and Public Meetings

Any person wishing to comment on the draft EIS may do so. Please carefully follow these instructions to ensure that your comments are received in time and properly recorded:

• Send original and two copies of your comments to: David Boergers, Secretary, Federal Energy Regulatory Commission, 888 First St., NE., Room 1A, Washington, DC 20426;

• Reference Docket No. CP00-40-000; and

• Comments must be received in Washington, DC on or before May 29, 2001.

You may mail your comments or file them electronically via the Internet (in lieu of paper). See 18 CFR 385.2001(a)(1)(iii) and the instructions on the Commission's web site at http://www.ferc.fed.us/efi/doorbell.htm under the link to the User's Guide. Before you can file comments you will need to create an account which can be created by clicking on “Login to File” and then “New User Account.”

In addition to accepting written and electronically filed comments, four public meetings to receive comments on this draft EIS will be held at the following times and locations.

Date | Location
Monday, May 7, 2001 | University of Mobile, Moorer Auditorium, Thomas T. Martin Fine Arts Building, Main Campus, College Parkway, Prichard, AL 36663-0220
Tuesday, May 8, 2001 | Holiday Inn, Panama City, 2001 North Cove Blvd., Panama City, FL 32405
Wednesday, May 9, 2001 | Radisson—Hotel Tampa at Sabal Park, 10221 Princess Palm Avenue, Tampa, FL 33610
Thursday, May 10, 2001 | Seminole County Commission Chambers, 1101 East First Street, Sanford, FL 32771

Interested groups and individuals are encouraged to attend and present oral comments on the environmental impacts described in the draft EIS. Transcript of the meetings will be prepared.

After these comments are reviewed, any significant new issues are investigated, and modifications are made to the draft EIS, a final EIS will be published and distributed by the staff. The final EIS will contain the staff's responses to timely comments received on the draft EIS.

Comments will be considered by the Commission but will not serve to make the commentor a party to the proceeding. Any person may file a motion to intervene on the basis of the Commission Staff's draft EIS (see Title 18 Code of Federal Regulations, Parts 380.106 and 385.214). You do not need intervenor status to have your comments considered.

All intervenors, agencies, elected officials, local governments, special interest groups, libraries, media, and anyone providing written comments on the draft EIS will receive a copy of the final EIS. If you did not wish to comment on the draft EIS but wish to receive a copy of the final EIS, you must write to the Secretary of the Commission indicating this request.

The draft EIS has been placed in the public files of the FERC and is available for public inspection at: Federal Energy Regulatory Commission, Public Reference and Files Maintenance Branch, 888 First Street, NE., Room 2A, Washington, DC 20426, (202) 208-1371.

A limited number of copies are available from the Public Reference and Files Maintenance Branch identified above. In addition, the draft EIS has been mailed to Federal, state, and local agencies; public interest groups; individuals, and affected landowners who requested a copy of the draft EIS; libraries; newspapers; and parties to this proceeding. As previously mentioned, the document is also available for viewing on the FERC website at www.ferc.fed.us, using the “RIMS” link to information in this docket number. For assistance with access to RIMS, the RIMS helpline can be reached at (202) 208-2222.

Additional information about the proposed project is available from the Commission's Office of External Affairs, at (202) 208-1088 or on the FERC website described in the preceding paragraph. Access to the texts of formal documents issued by the Commission with regard to this docket, such as orders and notices, is also available on the FERC website using the “CIPS” link. For assistance with access to CIPS, the CIPS helpline can be reached at (202) 208-2474.

David P. Boergers,
Secretary.

[FR Doc. 01-8856 Filed 4-10-01; 8:45 am]

BILLING CODE 6717-01-M